ENVIRONMENTAL PROTECTION AGENCY

[EPA-HQ-OPP-2011-0282; FRL-9342-1]

Registration Review; Pesticide Dockets Opened for Review and Comment and Other Docket Act

AGENCY: Environmental Protection Agency (EPA).

ACTION: Notice.

SUMMARY: EPA has established registration review dockets for the pesticides listed in the table in Unit III.A. With this document, EPA is opening the public comment period for these registration reviews. Registration review is EPA's periodic review of pesticide registrations to ensure that each pesticide continues to satisfy the statutory standard for registration, that is, the pesticide can perform its intended function without unreasonable adverse effects on human health or the environment. Registration review dockets contain information that will assist the public in understanding the types of information and issues that the Agency may consider during the course of registration reviews. Through this program, EPA is ensuring that each pesticide's registration is based on current scientific and other knowledge, including its effects on human health and the environment. This document also announces the Agency's intent not to open a registration review docket for dicofol, molinate, or bromonitrostyrene. Bromonitrostyrene and molinate do not currently have any actively registered pesticide products and are not, therefore, scheduled for review under the registration review program. Dicofol is undergoing a phase-out of all U.S. pesticide registrations. The cancellations of the end use registrations are effective October 31, 2013. Therefore, dicofol is not scheduled for review under the registration review program. EPA is also announcing the availability of an amended final work plan for the registration review of the pesticide tribenuron methyl; this work plan has been amended to incorporate revisions to the data requirements.

DATES: Comments must be received on or before May 29, 2012.

ADDRESSES: Submit your comments identified by the docket identification (ID) number for the specific pesticide of interest provided in the table in Unit III.A., by one of the following methods:

• Federal eRulemaking Portal: http://www.regulations.gov. Follow the online instructions for submitting comments.

• Mail: Office of Pesticide Programs (OPP) Regulatory Public Docket (7502P), Environmental Protection Agency, 1200 Pennsylvania Ave. NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID numbers listed in the table in Unit III.A. for the pesticides you are commenting on. EPA's policy is that all comments received will be included in the docket without change and may be made available online at http://www.regulations.gov, including any personal information provided, unless the comment includes information claimed to be Confidential Business Information (CBI) or other information whose disclosure is restricted by statute. Do not submit information that you consider to be CBI or otherwise protected through regulations.gov or email. The regulations.gov Web site is an “anonymous access” system, which means EPA will not know your identity or contact information unless you provide it in the body of your comment. If you send an email comment directly to EPA without going through regulations.gov, your email address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: For pesticide specific information contact: The Chemical Review Manager identified in the table in Unit III.A. for the pesticide of interest.

For general information contact: Kevin Costello, Pesticide Re-evaluation Division (7508P), Office of Pesticide Programs, Environmental Protection Agency, 1200 Pennsylvania Ave. NW., Washington, DC 20460-0001; telephone number: (703) 305-5026; fax number: (703) 308-8005; email address: costello.kevin@epa.gov.

SUPPLEMENTARY INFORMATION:

I. General Information

A. Does this action apply to me?

This action is directed to the public in general, and may be of interest to a wide range of stakeholders including environmental, human health, farmworker, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide(s) discussed in this document, compared to the general population.

II. Authority

EPA is initiating its reviews of the pesticides identified in this document pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5). When used in accordance with widespread and commonly recognized practice, the pesticide product must perform its intended function without unreasonable adverse effects on the environment; that is, without any unreasonable risk to man or the environment, or a human dietary risk from residues that result from the use of a pesticide in or on food.

III. Registration Reviews

A. What action is the Agency taking?

As directed by FIFRA section 3(g), EPA is reviewing the pesticide registrations identified in the table in this unit to assure that they continue to satisfy the FIFRA standard for registration—that is, they can still be used without unreasonable adverse effects on human health or the environment. A pesticide's registration review begins when the Agency establishes a docket for the pesticide's registration review case and opens the docket for public review and comment. At present, EPA is opening registration review dockets for the cases identified in the following table.

Table—Registration Review Dockets Opening
Registration review case name and number | Docket ID number | Chemical Review Manager, telephone number, email address
Cypermethrin, 2130 | EPA-HQ-OPP-2012-0167 | Dana Friedman, (703) 347-8827, friedman.dana@epa.gov.
Cymoxanil, 7023 | EPA-HQ-OPP-2012-0148 | Moana Appleyard, (703) 308-8175, appleyard.moana@epa.gov.
Halosulfuron-methyl, 7233 | EPA-HQ-OPP-2011-0745 | Kaitlin Keller, (703) 308-8172, keller.kaitlin@epa.gov.
Primisulfuron-methyl, 7220 | EPA-HQ-OPP-2011-0844 | Christina Scheltema, (703) 308-2201, scheltema.christina@epa.gov.
Triasulfuron, 7221 | EPA-HQ-OPP-2012-0115 | Andrea Mojica, (703) 308-0122, mojica.andrea@epa.gov.
Acetaminophen, 7610 | EPA-HQ-OPP-2012-0145 | Bonnie Adler, (703) 308-8523, adler.bonnie@epa.gov.
Chlorothalonil, 0097 | EPA-HQ-OPP-2011-0840 | Jose Gayoso, (703) 347-8652, gayoso.jose@epa.gov; Rebecca von dem Hagen, 703-305-6785, vondem-hagen.rebecca@epa.gov.
Cyprodinil, 7025 | EPA-HQ-OPP-2011-1008 | Wilhelmena Livingston, (703) 308-8025, livingston.wilhelmena@epa.gov.
Nitrapyrin, 0213 | EPA-HQ-OPP-2012-0170 | Kelly Ballard, (703) 305-8126, ballard.kelly@epa.gov.
Mepiquat and mepiquat chloride, 2375 | EPA-HQ-OPP-2012-0083 | Carissa Cyran, (703) 347-8781; cyran.carissa@epa.gov.
Methyloxazolidines, 3095 | EPA-HQ-OPP-2012-0007 | Seiichi Murasaki, 703-347-0163, murasaki.seiichi@epa.gov.
Perboric acid, (HBO(O2), sodium salt, monohydrate, 5007 | EPA-HQ-OPP-2012-0006 | Seiichi Murasaki, 703-347-0163, murasaki.seiichi@epa.gov.
Na & Ca Hypochlorite, 0029 | EPA-HQ-OPP-2012-0004 | Wanda Henson, 703-308-6345, henson.wanda@epa.gov.
Pine oils, 3113 | EPA-HQ-OPP-2012-0005 | Rebecca von dem Hagen, 703-305-6785, vondem-hagen.rebecca@epa.gov.
SCLPs (Straight Chain Lepidopteran Pheromones), 8200 | EPA-HQ-OPP-2012-0127 | Colin Walsh, (703) 308-0298, walsh.colin@epa.gov.
Methyl Nonyl Ketone, 3094 | EPA-HQ-OPP-2012-0125 | Gina Burnett, (703) 605-0513, burnett.gina@epa.gov.
Nuranone Japanese Beetle Attractant, 4113 | EPA-HQ-OPP-2012-0126 | Colin Walsh, (703) 308-0298, walsh.colin@epa.gov.

EPA is also announcing that it will not be opening a docket for dicofol, molinate, or bromonitrostyrene. Bromonitrostyrene and molinate do not currently have any products actively registered under FIFRA section 3. Dicofol is undergoing a phase-out of all U.S. pesticide registrations. The cancellations of the end use registrations are effective October 31, 2013. Therefore, dicofol is not scheduled for review under the registration review program. The Agency will take separate actions to cancel any remaining FIFRA section 24(c) Special Local Needs registrations with these active ingredients and to propose revocation of any affected tolerances that are not supported for import purposes only.

EPA is also announcing the availability of an amended final work plan for the registration review of the pesticide tribenuron methyl (docket EPA-HQ-OPP-2010-0626). This final work plan has been amended to incorporate changes to the data requirements for registration review.

B. Docket Content

1. Review dockets. The registration review dockets contain information that the Agency may consider in the course of the registration review. The Agency may include information from its files including, but not limited to, the following information:

• An overview of the registration review case status.

• A list of current product registrations and registrants.

• Federal Register notices regarding any pending registration actions.

• Federal Register notices regarding current or pending tolerances.

• Risk assessments.

• Bibliographies concerning current registrations.

• Summaries of incident data.

• Any other pertinent data or information.

Each docket contains a document summarizing what the Agency currently knows about the pesticide case and a preliminary work plan for anticipated data and assessment needs. Additional documents provide more detailed information. During this public comment period, the Agency is asking that interested persons identify any additional information they believe the Agency should consider during the registration reviews of these pesticides. The Agency identifies in each docket the areas where public comment is specifically requested, though comment in any area is welcome.

2. Other related information. More information on these cases, including the active ingredients for each case, may be located in the registration review schedule on the Agency's Web site at http://www.epa.gov/oppsrrd1/registration_review/schedule.htm. Information on the Agency's registration review program and its implementing regulation may be seen at http://www.epa.gov/oppsrrd1/registration_review.

3. Information submission requirements. Anyone may submit data or information in response to this document. To be considered during a pesticide's registration review, the submitted data or information must meet the following requirements:

• To ensure that EPA will consider data or information submitted, interested persons must submit the data or information during the comment period. The Agency may, at its discretion, consider data or information submitted at a later date.

• The data or information submitted must be presented in a legible and useable form. For example, an English translation must accompany any material that is not in English and a written transcript must accompany any information submitted as an audiographic or videographic record. Written material may be submitted in paper or electronic form.

• Submitters must clearly identify the source of any submitted data or information.

• Submitters may request the Agency to reconsider data or information that the Agency rejected in a previous review. However, submitters must explain why they believe the Agency should reconsider the data or information in the pesticide's registration review.

As provided in 40 CFR 155.58, the registration review docket for each pesticide case will remain publicly accessible through the duration of the registration review process; that is, until all actions required in the final decision on the registration review case have been completed.

List of Subjects

Environmental protection, Pesticides and pests.

Dated: March 22, 2012.
Richard P. Keigwin, Jr.,
Director, Pesticide Re-evaluation Division, Office of Pesticide Programs.

[FR Doc. 2012-7449 Filed 3-27-12; 8:45 am]

BILLING CODE 6560-50-P